DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions, and the program in general, contact Lisa L. Reyes, Acting Clerk, United States Court of Federal Claims, 717 Madison Place NW., Washington, DC 20005, (202) 357-6400. For information on HRSA's role in the program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2017, through May 31, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: June 16, 2017.
George Sigounas,
Administrator.

List of Petitions Filed

1. Carlo Smith, Phoenix, Arizona, Court of Federal Claims No: 17-0580V

2. Deeki Sinha, Robertsdale, Alabama, Court of Federal Claims No: 17-0582V

3. Carolyn Wall and Stephen Wall on behalf of G.W., Aiken, South Carolina, Court of Federal Claims No: 17-0583V

4. John Price, Epping, New Hampshire, Court of Federal Claims No: 17-0586V

5. Julie A. Galpin, Asheville, North Carolina, Court of Federal Claims No: 17-0588V

6. Joseph Orlando, Erie, Pennsylvania, Court of Federal Claims No: 17-0589V

7. Eric Raymer, Lake Jackson, Texas, Court of Federal Claims No: 17-0590V

8. Aimee Nichols, Charlestown, Massachusetts, Court of Federal Claims No: 17-0591V

9. Janelle Peacock, Washington, District of Columbia, Court of Federal Claims No: 17-0592V

10. Mary Grammer, Arlington, Virginia, Court of Federal Claims No: 17-0593V

11. Brian Kelly, Canton, Ohio, Court of Federal Claims No: 17-0594V

12. Olivia Jeffers on behalf of X.J., Augusta, Georgia, Court of Federal Claims No: 17-0596V

13. Shawnta Gillespie, Baltimore, Maryland, Court of Federal Claims No: 17-0597V

14. Ross Vinocur, Avon, Connecticut, Court of Federal Claims No: 17-0598V

15. Kathleen Colbath on behalf of M.C., Phoenix, Arizona, Court of Federal Claims No: 17-0599V

16. Lacey Hauck, Johnstown, Pennsylvania, Court of Federal Claims No: 17-0602V

17. Hanane M. Seid, Oakland, California, Court of Federal Claims No: 17-0604V

18. Yvonne Salmon, Wellington, Florida, Court of Federal Claims No: 17-0605V

19. David Robin Curtis, West Des Moines, Iowa, Court of Federal Claims No: 17-0607V

20. Amy Shahbaz and Philip Shahbaz on behalf of J.S., Glendora, California, Court of Federal Claims No: 17-0608V

21. Evangelina Salinas, Greensboro, North Carolina, Court of Federal Claims No: 17-0609V

22. Joy Pleasant, Wellesley Hills, Massachusetts, Court of Federal Claims No: 17-0610V

23. Cynthia Pittman, Alexandria, Louisiana, Court of Federal Claims No: 17-0611V

24. Alethea Agee, Dublin, California, Court of Federal Claims No: 17-0615V

25. Kesha M. Story, Chalmette, Louisiana, Court of Federal Claims No: 17-0616V

26. Crystal Martin, Midland, Texas, Court of Federal Claims No: 17-0619V

27. Judith Dunn, Calera, Alabama, Court of Federal Claims No: 17-0620V

28. Russell Kilde on behalf of K.K., Ortonville, Minnesota, Court of Federal Claims No: 17-0621V

29. Donald R. Izard, Tonawanda, New York, Court of Federal Claims No: 17-0623V

30. Janine King, Dublin, Ohio, Court of Federal Claims No: 17-0625V

31. Mary Havener, Columbus, Ohio, Court of Federal Claims No: 17-0626V

32. Cameron Sharp, Vienna, Virginia, Court of Federal Claims No: 17-0628V

33. Elizabeth Hiebert, Dallas, Texas, Court of Federal Claims No: 17-0630V

34. Harold D. O'Dell, Alloy, West Virginia, Court of Federal Claims No: 17-0631V

35. Mark Prazoff, Washington, District of Columbia, Court of Federal Claims No: 17-0634V

36. Robert William Van Keuren, Maryville, Tennessee, Court of Federal Claims No: 17-0636V

37. Danielle Dotson on behalf of B.M., New Albany, Indiana, Court of Federal Claims No: 17-0637V

38. Diana Bell, Meridian, Idaho, Court of Federal Claims No: 17-0638V

39. Fay Munoz, Austell, Georgia, Court of Federal Claims No: 17-0640V

40. Sheila English, Chicago, Illinois, Court of Federal Claims No: 17-0641V

41. Elizabeth Doles, Trenton, New Jersey, Court of Federal Claims No: 17-0642V

42. Muna Allaham, Ypsilanti, Michigan, Court of Federal Claims No: 17-0644V

43. Emily McIntosh, Fremont, Nebraska, Court of Federal Claims No: 17-0645V

44. Susan Chatriand, Butte, Montana, Court of Federal Claims No: 17-0646V

45. Richard Pastella, Camp Hill, Pennsylvania, Court of Federal Claims No: 17-0647V

46. Elena Trujillo, Phoenix, Arizona, Court of Federal Claims No: 17-0648V

47. Donna T. Hyatt, Greenville, South Carolina, Court of Federal Claims No: 17-0650V

48. Gina Kidwell, New Port Richey, Florida, Court of Federal Claims No: 17-0651V

49. Rebecca Tell, New Milford, New Jersey, Court of Federal Claims No: 17-0652V

50. Ardena White, Chicago, Illinois, Court of Federal Claims No: 17-0655V

51. Misty Titus, Flagstaff, Arizona, Court of Federal Claims No: 17-0656V

52. John Berchielli, Washington, District of Columbia, Court of Federal Claims No: 17-0658V

53. Beth Bieranowski, McKees Rocks, Pennsylvania, Court of Federal Claims No: 17-0659V

54. Amy Lynn Smith, Brookfield, Wisconsin, Court of Federal Claims No: 17-0660V

55. Ethel Lynn Munn, Norfolk, Virginia, Court of Federal Claims No: 17-0662V

56. Robert Meli, Ocean City, New Jersey, Court of Federal Claims No: 17-0666V

57. John Sheridan, Phoenix, Arizona, Court of Federal Claims No: 17-0669V

58. Christine Pearson, Warrenton, Virginia, Court of Federal Claims No: 17-0670V

59. Shannon Finch, Riverside, California, Court of Federal Claims No: 17-0675V

60. Elizabeth Turner, Sacramento, California, Court of Federal Claims No: 17-0678V

61. Cynthia A. Marcinik, Latrobe, Pennsylvania, Court of Federal Claims No: 17-0680V

62. Kimberly R. Koebler, Pittsburgh, Pennsylvania, Court of Federal Claims No: 17-0681V

63. Tanitha Jackson on behalf of D.E., Albany, Georgia, Court of Federal Claims No: 17-0682V

64. Kimberly Roberts, Torrance, California, Court of Federal Claims No: 17-0683V

65. Billy Dean Peel, Martinez, Georgia, Court of Federal Claims No: 17-0684V

66. Kristie McClure, Murphy, North Carolina, Court of Federal Claims No: 17-0687V

67. Anita Burgess, Denton, Texas, Court of Federal Claims No: 17-0688V

68. Victor Walker, Juneau, Alaska, Court of Federal Claims No: 17-0689V

69. Mona Ibrahim, Fargo, North Dakota, Court of Federal Claims No: 17-0690V

70. Darlene Dinkel, Salina, Kansas, Court of Federal Claims No: 17-0691V

71. Todd Rosenthal, Ft. Mill, South Carolina, Court of Federal Claims No: 17-0693V

72. Victor Morales, Pembroke Pines, Florida, Court of Federal Claims No: 17-0694V

73. Valerie Mulholland, Florence, Oregon, Court of Federal Claims No: 17-0696V

74. Joseph L. Wheatley, Louisville, Kentucky, Court of Federal Claims No: 17-0697V

75. Julius Vine, Glendale, California, Court of Federal Claims No: 17-0698V

76. Nico Herron and Patience Turner on behalf of Xavier Herron, Deceased, Palo Alto, California, Court of Federal Claims No: 17-0700V

77. Jeffery Graves, Dresher, Pennsylvania, Court of Federal Claims No: 17-0701V

78. Christy Lynn Day on behalf of Reid Thomas Englehart, Deceased, Baton Rouge, Louisiana, Court of Federal Claims No: 17-0702V

79. Jamie L. Pinelli, San Clemente, California, Court of Federal Claims No: 17-0704V

80. Samuel Schrecengost, Clarion, Pennsylvania, Court of Federal Claims No: 17-0705V

81. Linda McDonald, Voorhees, New Jersey, Court of Federal Claims No: 17-0706V

82. Willie Griffin, Dallas, Texas, Court of Federal Claims No: 17-0707V

83. Carolyn Curtis, Waldorf, Maryland, Court of Federal Claims No: 17-0708V

84. Jannie Owens, Knoxville, Tennessee, Court of Federal Claims No: 17-0709V

85. Marc Dudash, Greensboro, North Carolina, Court of Federal Claims No: 17-0710V

86. Jennifer Butterworth Lyons, Chicago, Illinois, Court of Federal Claims No: 17-0713V

87. Lynn Farag on behalf of Z.F., Roseland, New Jersey, Court of Federal Claims No: 17-0714V

88. Catherine W. Viega, Rochester, New York, Court of Federal Claims No: 17-0715V

89. Iola Sykes, Sarasota, Florida, Court of Federal Claims No: 17-0716V

90. Dennis Smalley, Washington, District of Columbia, Court of Federal Claims No: 17-0717V

91. Lauren Jankowski on behalf of L.J., Englewood, New Jersey, Court of Federal Claims No: 17-0718V

92. Marci Talley Banks, Greensboro, North Carolina, Court of Federal Claims No: 17-0719V

93. Paula Burcham, Mankato, Minnesota, Court of Federal Claims No: 17-0720V

94. Darlene Headding, Rancho Santa Margarita, California, Court of Federal Claims No: 17-0721V

95. Linda Chen on behalf of K.N., Boston, Massachusetts, Court of Federal Claims No: 17-0722V

96. Tina Reynolds, Beverly Hills, California, Court of Federal Claims No: 17-0723V

[FR Doc. 2017-13314 Filed 6-23-17; 8:45 am]

BILLING CODE 4165-15-P